DEPARTMENT OF ENERGY

Federal Energy Regulatory Commission

[Docket No. RM01-8-000]

Revised Public Utility Filing Requirements; Notice

July 1, 2002.

In Order Issuing Instruction Manual for Public Utilities to Use to File Their Electric Quarterly Reports, issued on May 29, 2002, the Commission defined the specific filing instructions for complying with Order 2001, Revised Public Utility Filing Requirements, (67 FR 31043, FERC Stats. & Regs. ¶ 31,127, April 25, 2002). This notice is to provide a filing alternative to utilities with very large Electric Quarterly Report Filings.

Several utilities have expressed concern that their Electric Quarterly Report filings will be too large to conform to the current size constraints of FERC's electronic filing system. While the ultimate system will be able to accommodate these large filings, the interim method being used for the July 31, 2002 and October 31, 2002 reports is limited in the size of the files it can accept. The May 29, 2002 order did not fully address options for parties with filings larger than the current size limit of five megabytes (MB). To accommodate the larger filings, we will increase the file size limitation for the Electric Quarterly Report filings to ten MB.

All utilities filing Electric Quarterly Reports that are 10MB or less are required to file as instructed in the Commission's May 29, 2002 order issued in RM01-8-000.

Utilities filing Electric Quarterly Reports that are larger than ten MB shall break the Electric Quarterly Report into files that are each ten MB or less and electronically file each part via FERC's electronic filing system. The file name for each part filed must be identical except the last character(s) of the file name, before the file extension (i.e., .csv, .xls, or .xlb). That character shall identify each part sequentially. The first part to be filed shall end with the number “1” and be increased by one for each successive part filed. For example, if the first part filed is named myutilityeqr1.csv, the second part will be named myutilityeqr2.csv, and so on. By using this naming convention, staff and the public will be able to reconstruct the utility's Electric Quarterly Report by placing the parts filed in the correct order. The filings will be available in RIMS and/or FERRIS as multiple documents. The ten MB file size will reduce the adverse impact of network connection problems and PC configuration limitations when the public downloads the files.

If utilities experience difficulties filing their Electric Quarterly Reports, FERC staff will work with filers on a case by case basis to resolve technical issues. For assistance or to discuss problems with making electronic filings, contact the Helpline at 202-208-0258 during the Commission's business hours (8:30 a.m. to 5:00 p.m. Eastern time) or e-mail efiling@ferc.gov.

Magalie R. Salas,
Secretary.

[FR Doc. 02-16966 Filed 7-5-02; 8:45 am]

BILLING CODE 6717-01-P